DEPARTMENT OF THE INTERIOR

National Park Service

[NPS-WASO-NAGPRA-NPS0037483; PPWOCRADN0-PCU00RP14.R50000]

Notice of Inventory Completion: Tyndall Air Force Base, Bay County, FL

AGENCY: National Park Service, Interior.

ACTION: Notice.

SUMMARY: In accordance with the Native American Graves Protection and Repatriation Act (NAGPRA), Tyndall Air Force Base (Tyndall AFB) has completed an inventory of human remains and has determined that there is a cultural affiliation between the human remains and Indian Tribes or Native Hawaiian organizations in this notice. The human remains were removed from Bay County, FL.

DATES: Repatriation of the human remains in this notice may occur on or after March 29, 2024.

ADDRESSES: Mr. Jose Cintron, Chief, Environmental Element, 325th CES/CEIE, Tyndall AFB, 103 Mississippi Road (Building 36233), Tyndall AFB, FL 32403, telephone (850) 283-2713, email jose.cintron.1@us.af.mil.

SUPPLEMENTARY INFORMATION: This notice is published as part of the National Park Service's administrative responsibilities under NAGPRA. The determinations in this notice are the sole responsibility of Tyndall AFB. The National Park Service is not responsible for the determinations in this notice. Additional information on the determinations in this notice, including the results of consultation, can be found in the inventory or related records held by Tyndall AFB.

Description

Human remains representing, at minimum, three individuals were removed from Bay County, FL. The human remains were presumably, based on available information and professional analysis, removed from the Davis Point Site either located either as site 8BY07 or 8BY09, on federal property by an anonymous individual prior to the construction of the Pelican Point Golf Course sometime in the 1950s—1960s. In 2022, the Florida Division of Historical Resources (DHR) discovered the inventory containing the human remains which was received as a collection from the Archaeological Landscapes, Technical Assistance Service and Contracts Program based at Southeastern Archaeological Center in 2018. The three individuals range between 35 and 50+ years of age. No associated funerary objects are present.

Cultural Affiliation

The human remains in this notice are connected to one or more identifiable earlier groups, tribes, peoples, or cultures. There is a relationship of shared group identity between the identifiable earlier groups, tribes, peoples, or cultures and one or more Indian Tribes or Native Hawaiian organizations. The following types of information were used to reasonably trace the relationship: archaeological information, geographical information, historical information, other relevant information, and expert opinion.

Determinations

Pursuant to NAGPRA and its implementing regulations, and after consultation with the appropriate Indian Tribes and Native Hawaiian organizations, Tyndall AFB has determined that:

• The human remains described in this notice represent the physical remains of three individuals of Native American ancestry.

• There is a relationship of shared group identity that can be reasonably traced between the human remains described in this notice and the Miccosukee Tribe of Indians; Poarch Band of Creek Indians; Seminole Tribe of Florida; The Muscogee (Creek) Nation; The Seminole Nation of Oklahoma; and the Thlopthlocco Tribal Town.

Requests for Repatriation

Written requests for repatriation of the human remains described by this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after March 29, 2024. If competing requests for repatriation are received, Tyndall AFB must determine the most appropriate requestor prior to repatriation. Requests for joint repatriation of the human remains are considered a single request and not competing requests. Tyndall AFB is responsible for sending a copy of this notice to the Indian Tribes and Native Hawaiian organizations identified in this notice.

This notice was submitted before the effective date of the revised regulations (88 FR 86452, December 13, 2023, effective January 12, 2024). As the notice conforms to the mandatory format of the Federal Register and includes the required information, the National Park Service is publishing this notice as submitted.

Authority: Native American Graves Protection and Repatriation Act, 25 U.S.C. 3003, and the implementing regulations, 43 CFR 10.10.

Dated: February 20, 2024.
Melanie O'Brien,
Manager, National NAGPRA Program.

[FR Doc. 2024-04096 Filed 2-27-24; 8:45 am]

BILLING CODE 4312-52-P